ENVIRONMENTAL PROTECTION AGENCY

[EPA-HQ-OPPT-2012-0613; FRL-9360-1]

Certain New Chemicals; Receipt and Status Information

AGENCY: Environmental Protection Agency (EPA).

ACTION: Notice.

SUMMARY: The Toxic Substances Control Act (TSCA) requires any person who intends to manufacture (defined by statute to include import) a new chemical (i.e., a chemical not on the TSCA Chemical Substances Inventory (TSCA Inventory)) to notify EPA and comply with the statutory provisions pertaining to the manufacture of new chemicals. In addition under TSCA, EPA is required to publish in the Federal Register a notice of receipt of a premanufacture notice (PMN) or an application for a test marketing exemption (TME), and to publish in the Federal Register periodic status reports on the new chemicals under review and the receipt of notices of commencement (NOC) to manufacture those chemicals. This document, which covers the period from July 23, 2012 to August 03, 2012, and provides the required notice and status report, consists of the PMNs and TMEs, both pending or expired, and the NOC to manufacture a new chemical that the Agency has received under TSCA section 5 during this time period.

DATES: Comments identified by the specific PMN number or TME number, must be received on or before September 28, 2012.

ADDRESSES: Submit your comments, identified by docket identification (ID) number EPA-HQ-OPPT-2012-0613, and the specific PMN number or TME number for the chemical related to your comment, by one of the following methods:

• Federal eRulemaking Portal: http://www.regulations.gov. Follow the on-line instructions for submitting comments.

• Mail: Document Control Office (7407M), Office of Pollution Prevention and Toxics (OPPT), Environmental Protection Agency, 1200 Pennsylvania Ave. NW., Washington, DC 20460-0001.

• Hand Delivery: OPPT Document Control Office (DCO), EPA East Bldg., Rm. 6428, 1201 Constitution Ave. NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave. NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Pollution Prevention and Toxics, Environmental Protection Agency, 1200 Pennsylvania Ave. NW., Washington, DC 20460-0001; telephone number: (202) 564-8951; fax number: (202) 564-8955; email address: Mudd.Bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://ww.epa.gov/opt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from July 23, 2012 to August 03, 2012, consists of the PMNs pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—17 PMNs Received From 07/23/12 to 08/03/12
Case No. | Received date | Projected notice end date | Manufacturer/importer | Use | Chemical
P-12-0473 | 07/23/2012 | 10/20/2012 | Takasago International Corporation U.S.A | (S) Ingredient in a fragrance compound | (S) Phenol 4-(ethoxymethyl)-2-methoxy-l.
P-12-0474 | 07/23/2012 | 10/20/2012 | CBI | (S) Aliphatic multifunctional urethane acrylate for use in wood stains, primers and coatings | (G) Ultra violet curable acrylate.
P-12-0475 | 07/24/2012 | 10/21/2012 | Mane, U.S.A. | (S) Fragrance ingredient | (S) Butanoic acid, 2-methyl-5-(1-methylethyl) cyclopentyl ester.
P-12-0476 | 07/25/2012 | 10/22/2012 | Infigreen Polymers | (S) Polyol for use in manufacturing of polyurethane foam | (G) Aromatic polyester polyether polyol.
P-12-0477 | 07/27/2012 | 10/24/2012 | International Specialty Products | (S) Scale inhibitor | (S) Phosphonic acid, [[(2-hydroxyethyl)imino]bis(methylene)]bis-, monosodium salt (9ci) .
P-12-0478 | 07/27/2012 | 10/24/2012 | CBI | (G) Coatings | (G) Amine salted polyurethane.
P-12-0480 | 07/30/2012 | 10/27/2012 | CBI | (S) Monomer for specialty polymer | (G) Alkyl maleimide substituted bicyclic olefin.
P-12-0481 | 07/30/2012 | 10/27/2012 | CBI | (G) Polymer manufacture for electronic applications | (G) Alkylated aromatic diamine.
P-12-0482 | 07/31/2012 | 10/28/2012 | Honda of America Mfg., Inc | (S) Fertilizer component to achieve desired zinc content | (S) Flue dust, automotive metal recovery.
P-12-0483 | 08/01/2012 | 10/29/2012 | CBI | (G) Coating additive | (G) Siloxanes and silicones, substituted alkyl group-terminated, ethoxylated, polymers with 5-isocyanato-1-(isocyanatomethyl)-, 1,3,3-trimethylcyclohexane and N-alkyl glycol, hydroxyethyl methacrylate-blocked.
P-12-0484 | 08/01/2012 | 10/29/2012 | Bio100 Technologies, LLC | (S) Polyol for polyurethane foam; polyol for polyurethane adhesives | (G) Polyester polyol based upon glycerin.
P-12-0485 | 08/01/2012 | 10/29/2012 | CBI | (G) Additive to polyurethane foam | (G) Oxirane, alkyl, polymer with aromatic isocyanate, alkyloxirane polymer with oxirane ether with alkyltriol, and oxirane, polyethylene glycol mono(alkylaromatic) ether-blocked.
P-12-0486 | 08/01/2012 | 10/29/2012 | CBI | (G) Additive to polyurethane foam | (G) 2-alkylacohol, 1,1′′,1′′′,1′′′′ -(-alkanediyldinitrilo) tetrakis-, polymer with aromatic isocyanate, alkyloxirane, alkyloxirane polymer with oxirane ether with aliphatic triol (3:1), and oxirane, polyalkylene glycol mono(branched alkylaromatic) ether-blocked.
P-12-0487 | 08/01/2012 | 10/29/2012 | CBI | (G) Additive to polyurethane foam | (G) Alkanol, oxybis-, polymer with aromatic, isocyanate-terminated, polymers with alkylene oxide, aromatic isocyanate, alkylene glycol ether with alkyltrioll (3:1), polyalkylene glycol and alkylene oxide, polyethylene glycol mono (alkylaromatic) ether.
P-12-0488 | 08/01/2012 | 10/29/2012 | CBI | (G) Additive to polyurethane foam | (G) Hydroxyl containing oil, polymer with aromatic isocyanate, polyalkylene-polyalkylene glycol ether with dialkylene glycol (2:1) and polyalkylene-polyalkylene glycol ether with aliphatic triol (3:1), polyalkylene glycol mono (branched alkylaromatic) ether-blocked.
P-12-0489 | 08/01/2012 | 10/29/2012 | CBI | (G) Additive to polyurethane foam | (G) Hydroxy containing oil, polymer with alkylene oxide, aromatic isocyanate, and polyalkylene-polyalkylene glycol ether with aliphatic triol (3:1), and alkylene oxide, polyalkylene glycol mono (branched alkylaromatic) ether-blocked.
P-12-0490 | 08/01/2012 | 10/29/2012 | CBI | (G) Additive to polyurethane foam | (G) Alkanol, oxybis-, polymer with aromatic isocyanate, isocyanate-terminated, polymers with 1,1′,1′′,1′′′-(1,2-alkyldinitrilo)tetrakis[2-alkanol], alkylene oxide, aromatic isocyanate, polyalkylenepolyalkylene glycol ether with aliphatic triol (3:1), polyalkylene glycol and alkylene oxide, polyalkylene glycol mono (branched alkylaromatic) ether-blocked.

In Table II. of this unit, EPA provides the following information (to the extent that such information is not claimed as CBI) on the NOCs received by EPA during this period: The EPA case number assigned to the NOC, the date the NOC was received by EPA, the projected end date for EPA's review of the NOC, and chemical identity.

Table II—12 NOCs Received From 07/23/12 to 08/03/12
Case No. | Received date | Commencement notice end date | Chemical
P-07-0161 | 08/03/2012 | 07/18/2012 | (G) Alkene substituted bis phenol.
P-11-0138 | 07/26/2012 | 07/16/2012 | (G) Propylene oxide adduct of polyhydric alcohol.
P-11-0160 | 07/31/2012 | 07/14/2012 | (G) Acrylated fatty acid glycerides.
P-11-0392 | 08/02/2012 | 07/25/2012 | (G) Chlorofluoroalkene.
P-11-0609 | 07/24/2012 | 05/30/2012 | (S) Propenoic acid, 3-[ (2-hydroxy-1,1-dimethylethyl)amino]-2-methyl-.
P-11-0611 | 07/24/2012 | 05/30/2012 | (S) Propenoic acid, 3-[ [ 2-hydroxy -1-bism(hydroxymethyl) ethyl] amino]-2-methyl-.
P-12-0227 | 07/31/2012 | 07/28/2012 | (G) Polycycloolefin polymer.
P-12-0229 | 07/24/2012 | 07/20/2012 | (G) Subsituted aromatic diazo sulfonic acid salts.
P-12-0276 | 07/24/2012 | 07/20/2012 | (G) Aromatic sulfonic acid azo dye salts.
P-12-0325 | 07/24/2012 | 07/23/2012 | (G) Poly[oxy(methyl-1,2-ethanediyl)]-, ,alpha.-[3-substituted-1-oxo-2-alken-1-yl]-.omega.-hydroxy-, alkyl ethers.
P-12-0328 | 07/25/2012 | 07/24/2012 | (G) MDI modified polyester with 1,2-ethanediol, iso-pr. alc-blocked.
P-96-0876 | 07/31/2012 | 07/09/2012 | (S) Benzenesulfonamide, N,N-[methylenebis (4,1-phenyleneiminocarbonyl)] bis[4-methyl-.

If you are interested in information that is not included in these tables, you may contact EPA as described in Unit II. to access additional non-CBI information that may be available.

List of Subjects

Environmental protection, Chemicals, Hazardous substances, Imports, Notice of commencement, Premanufacturer, Reporting and recordkeeping requirements, Test marketing exemptions.

Dated: August 16, 2012.
Chandler Sirmons,
Acting Director, Information Management Division, Office of Pollution Prevention and Toxics.

[FR Doc. 2012-20877 Filed 8-28-12; 8:45 am]

BILLING CODE 6560-50-P